ENVIRONMENTAL PROTECTION AGENCY

[EPA-HQ-OPP-2006-0084; FRL-8101-7]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations and providing a public comment period.

DATES: Unless a request is withdrawn by May 7, 2007 or December 8, 2006 for registrations for which the registrant requested a waiver of the 180-day comment period, orders will be issued canceling these registrations. The Agency will consider withdrawal requests postmarked no later than May 7, 2007 or December 8, 2006, whichever is applicable. Comments must be received on or before May 7, 2007 or December 8, 2006, for those registrations where the 180-day comment period has been waived.

ADDRESSES: Submit your comments and your withdrawal request, identified by docket identification (ID) number EPA-HQ-OPP-2006-0084, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written withdrawal requests should be to the Attention of: John Jamula, Information Technology and Resources Management Division (7502P), at the address above.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2006-0084. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 105 pesticide products registered under section 3 or 24(c) of FIFRA. These registrations are listed in sequence by registration number (or company number and 24(c) number) in the following Table 1:

Table 1.—Registrations With Pending Requests for Cancellation
Registration no. | Product Name | Chemical Name
000004-00450 | Bonide Snail N Slug Plus | Metaldehyde
|  | Carbaryl
000100-00982 | Riceco Touche | Propanil
|  | Molinate
000100-01036 | Arrosolo 3-3E | Propanil
|  | Molinate
000100-01136 | Butafenacil Technical | Benzoic acid, 2-chloro-5-[3,6-dihydro-3-methyl-2,6-dioxo-4-(trifluoromethyl)-1(2H)-pyrimidin
000100-01137 | Inspire EC | Benzoic acid, 2-chloro-5-[3,6-dihydro-3-methyl-2,6-dioxo-4-(trifluoromethyl)-1(2H)-pyrimidin
000100 CO-06-0006 | Axial Herbicide | Pinoxaden
000100 OR-05-0011 | Tilt | Propiconazole
000228-00133 | Riverdale Killsall Liquid | Sodium chlorate
000228-00158 | Riverdale Pre-Emergent Crabgrass Control Concentrate | Benfluralin
000228-00172 | Riverdale 34-0-10 & Benefin Crabgrass Preventer | Benfluralin
000228-00174 | Riverdale 2.5g Pre-Emergent Herbicide | Benfluralin
000228-00201 | Riverdale Killsall II Ready-To-Use Liquid | 6,7-Dihydrodipyrido(1,2-a:2',1'-c)pyrazinediium dibromide
|  | Sodium chlorate
000228-00204 | Riverdale Triamine II Liquid Weed & Feed | MCPA, dimethylamine salt
|  | Dimethylamine 2-(2,4-dichlorophenoxy)propionate
|  | Mecoprop, dimethylamine salt
000228-00207 | Riverdale Team .87 Lawn Weed and Feed | Trifluralin
|  | Benfluralin
000228-00215 | Riverdale Triamine II Premium Liquid Weed and Feed | MCPA, dimethylamine salt
|  | Dimethylamine 2-(2,4-dichlorophenoxy)propionate
|  | Mecoprop, dimethylamine salt
000228-00218 | Riverdale Triamine II Premium 75 Liquid Weed and Feed | MCPA, dimethylamine salt
|  | Dimethylamine 2-(2,4-dichlorophenoxy)propionate
|  | Mecoprop, dimethylamine salt
000228-00219 | Riverdale Sweet Sixteen Weed & Feed with Triamine II | MCPA, dimethylamine salt
|  | Propanoic acid, 2-(2,4-dichlorophenoxy)-, (R)-, compd. with N-methylmethanamine (1:1)
|  | Propanoic acid, 2-(4-chloro-2-methylphenoxy)-, (R)-, compd. with N-methylmethanamine (1:1)
000228-00224 | Riverdale Triamine II Spot Weed Killer | MCPA, dimethylamine salt
|  | Propanoic acid, 2-(2,4-dichlorophenoxy)-, (R)-, compd. with N-methylmethanamine (1:1)
|  | Propanoic acid, 2-(4-chloro-2-methylphenoxy)-, (R)-, compd. with N-methylmethanamine (1:1)
000228-00225 | Riverdale Triamine II Weed & Feed | MCPA, dimethylamine salt
|  | Dimethylamine 2-(2,4-dichlorophenoxy)propionate
|  | Mecoprop, dimethylamine salt
000228-00226 | Riverdale 3-Way Weed and Feed with Triamine II | MCPA, dimethylamine salt
|  | Dimethylamine 2-(2,4-dichlorophenoxy)propionate
|  | Mecoprop, dimethylamine salt
000228-00228 | Riverdale Triamine II W.S. | MCPA (and salts and esters)
|  | Propanoic acid, 2-(2,4-dichlorophenoxy)-, (R)-
|  | Mecoprop-P
000228-00229 | Riverdale Triamine II Granular Weed Killer | MCPA, dimethylamine salt
|  | Dimethylamine 2-(2,4-dichlorophenoxy)propionate
|  | Mecoprop, dimethylamine salt
000228-00256 | Riverdale Team 1.33% Lawn Weed and Feed | Trifluralin
|  | Benfluralin
000228-00266 | Riverdale Duo Lawn Weed Killer | MCPA, dimethylamine salt
|  | Mecoprop, dimethylamine salt
000228-00279 | Riverdale Dri-MCPA Amine | MCPA, dimethylamine salt
000228-00285 | Riverdale Tri-Power (r) Dry | Dicamba
|  | MCPA (and salts and esters)
|  | Mecoprop (and salts and esters)
000228-00299 | Riverdale Tri-Power (r) 4000 Weed and Feed | Benzoic acid, 3,6-dichloro-2-methoxy-, compd with N-methylmethanamine (1:1)
|  | MCPA, dimethylamine salt
|  | Mecoprop, dimethylamine salt
000228-00300 | Riverside Sweet Sixteen Weed and Feed with Tri-Power (r) | Dicamba
|  | MCPA (and salts and esters)
|  | Mecoprop-P
000228-00301 | Riverdale Tri-Power (r) Dry Weed and Feed | Dicamba
|  | MCPA (and salts and esters)
|  | Mecoprop-P
000228-00306 | Riverdale Tri-Power (r) Dry Granular Weed Killer | Dicamba
|  | MCPA (and salts and esters)
|  | Mecoprop (and salts and esters)
000228-00349 | MCDA Lawn Weed Killer | Benzoic acid, 3,6-dichloro-2-methoxy-, compd with N-methylmethanamine (1:1)
|  | MCPA, dimethylamine salt
|  | 3,6-Dichloro-2-pyridinecarboxylic acid, alkanolamine salts (of ethanol and isopropanol serie
000228-00350 | MCDA 8000 Lawn Weed Killer | Benzoic acid, 3,6-dichloro-2-methoxy-, compd with N-methylmethanamine (1:1)
|  | MCPA, dimethylamine salt
|  | 3,6-Dichloro-2-pyridinecarboxylic acid, alkanolamine salts (of ethanol and isopropanol serie
000228-00351 | MDCA Spot Weed Killer | Benzoic acid, 3,6-dichloro-2-methoxy-, compd with N-methylmethanamine (1:1)
|  | MCPA, dimethylamine salt
|  | 3,6-Dichloro-2-pyridinecarboxylic acid, alkanolamine salts (of ethanol and isopropanol serie
000228-00352 | Riverdale MCDA Weed and Feed | Benzoic acid, 3,6-dichloro-2-methoxy-, compd with N-methylmethanamine (1:1)
|  | MCPA, dimethylamine salt
|  | 3,6-Dichloro-2-pyridinecarboxylic acid, alkanolamine salts (of ethanol and isopropanol serie
000228-00353 | Riverdale MCDA Granular Weed Killer | Benzoic acid, 3,6-dichloro-2-methoxy-, compd with N-methylmethanamine (1:1)
|  | MCPA, dimethylamine salt
|  | 3,6-Dichloro-2-pyridinecarboxylic acid, alkanolamine salts (of ethanol and isopropanol serie
000241 CA-03-0005 | Raptor Herbicide | Imazamox
000264-00649 | Tiller EC Herbicide | 2,4-D, 2-ethylhexyl ester
|  | MCPA, 2-ethylhexyl ester
|  | Fenoxaprop-p-ethyl
000264-00654 | Cheyenne FM Herbicide | MCPA, 2-ethylhexyl ester
|  | Fenoxaprop-p-ethyl
000264-00655 | Dakota Herbicide | MCPA, 2-ethylhexyl ester
|  | Fenoxaprop-p-ethyl
000264 AL-06-0004 | Baythroid XL | beta-cyfluthrin
000264 PR-92-0001 | Monitor 4 | Methamidophos
000524 CA-02-0011 | Mon 78112 Herbicide | Glyphosate-isopropylammonium
000769-00825 | SMCP Dursban 2.5% G Insecticide | Chlorpyrifos
001021-01340 | MGK Formula 7243 | Piperonyl butoxide
|  | Pyrethrins
001021-01464 | Pyrocide Intermediate 7123 | Piperonyl butoxide
|  | Pyrethrins
002217-00720 | Trimec 869 | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00721 | Trimec 870 | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00722 | Trimec 871 | Dicamba
|  | MCPA (and salts and esters)
|  | Mecoprop-P
002217-00729 | MM885 | MCPA, dimethylamine salt
|  | Propanoic acid, 2-(4-chloro-2-methylphenoxy)-, (R)-, compd. with N-methylmethanamine (1:1)
002217-00730 | Trimec M 886 Liquid Weed & Feed | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00731 | Trimec M 887 Liquid Weed & Feed | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00732 | Trimec M 903 | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00733 | Trimec M 904 | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00734 | Trimec M 905 | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00735 | MM 890 Liquid Weed & Feed 20-0-0 | MCPA, dimethylamine salt
|  | Propanoic acid, 2-(4-chloro-2-methylphenoxy)-, (R)-, compd. with N-methylmethanamine (1:1)
002217-00736 | Trimec M907 Liquid Weed & Feed | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00737 | Trimec M908 Liquid Weed & Feed | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00738 | MM 909 Liquid Weed and Feed | MCPA, dimethylamine salt
|  | Propanoic acid, 2-(4-chloro-2-methylphenoxy)-, (R)-, compd. with N-methylmethanamine (1:1)
002217-00743 | Trimec M891 Weed & Feed | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00744 | Trimec M 892 Weed & Feed | Benzoic acid, 3,6-dichloro-2-methoxy-, compd with N-methylmethanamine (1:1)
|  | MCPA, dimethylamine salt
|  | Propanoic acid, 2-(4-chloro-2-methylphenoxy)-, (R)-, compd. with N-methylmethanamine (1:1)
002217-00745 | MM 893 Weed & Feed | MCPA, dimethylamine salt
|  | Propanoic acid, 2-(4-chloro-2-methylphenoxy)-, (R)-, compd. with N-methylmethanamine (1:1)
002217-00750 | Gordon's Trimec M 936 Broadleaf Herbicide | Dicamba
|  | MCPA (and salts and esters)
|  | Mecoprop (and salts and esters)
002217-00784 | Trimec 1158 Broadleaf Herbicide | Dicamba
|  | MCPA (and salts and esters)
|  | Mecoprop-P
002217-00821 | EH1356 Herbicide | Dicamba
|  | MCPA (and salts and esters)
|  | Mecoprop-P
002217-00822 | EH1355 Weed and Feed | Dicamba
|  | MCPA (and salts and esters)
|  | Mecoprop-P
004581 WA-04-0016 | Microthiol Disperss | Sulfur
004822-00404 | Raid Liquid Flea Killer LF4 | Piperonyl butoxide
|  | Phenothrin
004822-00500 | Whitmire TC 85 Total Release Insect Fogger | 4,7-Methano-1H-isoindole-1,3(2H)-dione, 2-(2-ethylhexyl)-3a,4,7,7a-tetrahydro-
|  | Pyrethrins
|  | Permethrin
|  | Pyriproxyfen
007001-00383 | Turf Fertilizer with 1.00% Ronstar | Oxadiazon
007401-00085 | Ferti-Lome Ready To Use Liquid Weed & Wild Grass Killer | Sodium chlorate
007401-00087 | Ferti-Lome Liquid Vegetation Killer | Sodium chlorate
007401-00173 | Ferti-Lome Special Vegetation Killer | Sodium chlorate
009198-00030 | The Andersons Fertilizer with 0.92% Balan | Benfluralin
009198-00091 | The Andersons Tee Time Plus 0.57% Team | Trifluralin
|  | Benfluralin
009198-00101 | The Andersons Fertilizer with 0.87% Team | Trifluralin
|  | Benfluralin
009198-00130 | The Andersons Fertilizer with 1.50% Team | Trifluralin
|  | Benfluralin
010404-00036 | Lesco 2.5 Benefin Granular | Benfluralin
010404-00056 | Lesco Turf Fertilizer with 1.15% Team | Trifluralin
|  | Benfluralin
011603-00040 | Acetochlor Technical | Acetochlor
011685-00013 | MCPA Technical Acid | MCPA (and salts and esters)
011685-00024 | Riverdale Technical Mcpa Ioe | MCPA, 2-ethylhexyl ester
019713-00511 | Drexel Methyl Parathion 4 Insecticide | Methyl parathion
019713-00512 | Drexel Methyl Parathion 4E | Methyl parathion
019713 OR-04-0026 | Drexel Diazinon Insecticide | Diazinon
032802-00079 | Ronstar Plus Fertilizer 1.00% | Oxadiazon
032802-00080 | Ronstar Plus Fertilizer 1.50% | Oxadiazon
034704-00804 | Stay-N 2000 | Nitrapyrin
034704 OR-00-0005 | Prometryne 4L Herbicide | Prometryn
034704 OR-00-0017 | Saber Herbicide | 2,4-D, dimethylamine salt
034704 OR-98-0001 | Clean Crop Dimethoate 400 | Dimethoate
035935-00002 | Propanilo-3 | Propanil
035935-00010 | Technical MCP Ester | MCPA, 2-ethylhexyl ester
051036-00233 | Propanil 4EC | Propanil
053263-00029 | Emtrol Tobacco Sucker Control Agent | Fatty alcohols (54.5% C10, 45.1% C8, 0.4% C6)
057700-00001 | Shirasagi WHA | Silver
062719-00058 | MCPA Na Salt | MCPA, sodium salt
062719-00386 | Stam F-34 Herbicide | Propanil
062719-00389 | Stam LV-10 Herbicide | Propanil
062719-00393 | Stam GX-4 Herbicide | Propanil
062719-00436 | Stampro | Propanil
|  | Sulfometuron
062719-00521 | Atrazine Technical | Atrazine
070506-00027 | Devrinol 2-E Selective Herbicide | Napropamide
071085-00024 | Riceco Arrosolo 3-3E | Propanil
|  | Molinate
071368-00055 | Mcpa Amine 4 Herbicide | MCPA, dimethylamine salt
071368-00056 | Mcpa Ester 4 Herbicide | MCPA, 2-ethylhexyl ester

A request to waive the 180-day comment period has been received for the following registrations: 7401-85, 7401-87, and 7401-173. Therefore, the 30-day comment period will apply for these registrations.

Unless a request is withdrawn by the registrant by May 7, 2007 or by December 8, 2006 for those registrations with a 30-day comment period, orders will be issued canceling all of these registrations. A person may submit comments to EPA as provided in ADDRESSES and Unit I. of the SUPPLEMENTARY INFORMATION above. However, because FIFRA section 6(f)(1)(A) allows a registrant to request cancellation of its pesticide registrations at any time, users or anyone else desiring retention of those pesticides listed in Table 1 may want to contact the applicable registrant in Table 2 directly during this period to request that the registrant retain the pesticide registration or to discuss the possibility of transferring the registration. A user seeking to apply for its own registration of that pesticide may submit comments requesting EPA not to cancel a registration until its “me-too” registration is granted.

Table 2 of this unit includes the names and ADDRESSES of record for all registrants of the products in Table 1 of this unit, in sequence by EPA company number:

Table 2.—Registrants Requesting Voluntary Cancellation
EPA Company no. | Company Name and Address
000004 | Bonide Products, Inc., 6301 Sutliff Rd., Oriskany, NY 13424.
000100 | Syngenta Crop Protection, Inc., Attn: Regulatory Affairs, Po Box 18300, Greensboro, NC 27419-8300.
000228 | Nufarm Americas Inc., 150 Harvester Drive Suite 200, Burr Ridge, IL 60527.
000241 | BASF Corp., PO Box 13528, Research Triangle Park, NC 277093528.
000264 | Bayer Cropscience LP, 2 T.W. Alexander Drive, Research Triangle Park, NC 27709.
000524 | Monsanto Co., Agent For: Monsanto Co., 1300 I Street, NW., Suite 450 E., Washington, DC 20005.
000769 | Value Gardens Supply, LlC, d/b/a Value Garden Supply, PO Box 585, Saint Joseph, MO 64502.
001021 | Mclaughlin Gormley King Co., 8810 Tenth Ave North, Minneapolis, MN 55427-4372.
002217 | PBI/Gordon Corp., PO Box 014090, Kansas City, MO 64101-0090.
004581 | Cerexagri, Inc., 630 Freedom Business Center, Suite 402, King Of Prussia, PA 19406.
004822 | S.C. Johnson & Son Inc., 1525 Howe Street, Racine, WI 53403.
007001 | J.R. Simplot Co, PO Box 198, Lathrop, CA 95330.
007401 | Brazos Associates, Inc., Agent For: Voluntary Purchasing Group Inc., 1806 Auburn Drive, Carrollton, TX 75007-1451.
009198 | The Andersons Lawn Fertilizer Division, Inc., dba/ Free Flow Fertilizer, PO Box 119, Maumee, OH 43537.
010404 | Lesco Inc., 1301 E. 9th Street, Suite 1300, Cleveland, OH 44114-1849.
011603 | Makhteshim-Agan of North America Inc., Agent For: Agan Chem Mfg, Ltd, 4515 Falls of Neuse Rd. Ste 300, Raleigh, NC 27609.
011685 | Nufarm Limited, Agent For: Nufarm UK Limited, PO Box 13439, Rtp, NC 27709.
019713 | Drexel Chemical Co., PO Box 13327, Memphis, TN 381130327.
032802 | Howard Johnson's Enterprises Inc., 700 W. Virginia St. Ste 222, Milwaukee, WI 53204-1548.
034704 | Loveland Products, Inc., PO Box 1286, Greeley, CO 80632.
035935 | Nufarm Limited, Agent For: Nufarm Limited, PO Box 13439, Rtp, NC 27709.
051036 | BASF Sparks LLC, PO Box 13528, Research Triangle Park, NC 27709.
053263 | Lewis & Harrision, Agent For: Cognis Corp., 122 C St., NW., Suite 740, Washington, DC 20001.
057700 | Takeda America Inc., Agent For: Takeda Chemical Industries, Ltd., 555 Madision Ave. 11th Floor, New York, NY 10022.
062719 | Dow Agrosciences LLC, 9330 Zionsville Rd 308/2e, Indianapolis, IN 46268-1054.
070506 | United Phosphorus Inc., 423 Riverview Plaza, Trenton, NJ 08611.
071085 | Riceco LLC, 5100 Poplar Ave - Ste 2428, Memphis, TN 38137.
071368 | Nufarm, Inc., 150 Harvester Drive Suite 200, Burr Ridge, IL 60527.

III. What is the Agency's Authority for Taking this Action?

Section 6(f)(1)(A) of FIFRA provides that a registrant of a pesticide product may at any time request that any of its pesticide registrations be canceled. FIFRA further provides that, before acting on the request, EPA must publish a notice of receipt of any such request in the Federal Register and provide for a 30-day public comment period. In addition, where a pesticide is registered for a minor agricultural use and the Administrator determines that cancellation or termination of that use would adversely affect the availability of the pesticide for use, FIFRA section 6(f)(1)(C) requires EPA to provide a 180-day period before approving or rejecting the section 6(f) request unless:

1. The registrant requests a waiver of the 180-day period, or

2. The Administrator determines that continued use of the pesticide would pose an unreasonable adverse effect on the environment.

IV. Procedures for Withdrawal of Request

Registrants who choose to withdraw a request for cancellation must submit such withdrawal in writing to the person listed under FOR FURTHER INFORMATION CONTACT, postmarked before May 7, 2007 or before December 8, 2006 for those registrations where the 180-day comment period has been waived. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: October 27, 2006.
Robert Forrest,
Acting Director, Information Technology and Resources Management Division, Office of Pesticide Programs.

[FR Doc. E6-18778 Filed 11-7-06; 8:45 am]

BILLING CODE 6560-50-S